DEPARTMENT OF AGRICULTURE

Rural Utilities Service

Dry Fork Station and Hughes Transmission Project

AGENCY: Rural Utilities Service, USDA.

ACTION: Notice of Termination of Environmental Impact Statement.

SUMMARY: Notice is hereby given that the Rural Utilities Service (RUS), an agency delivering the United States Department of Agriculture (USDA) Rural Development Utilities Programs, hereinafter referred to as Rural Development, is terminating further preparation of an Environmental Impact Statement (EIS) for the Dry Fork Station and Hughes Transmission Project in Campbell and Sheridan Counties, Wyoming.

The purpose of the EIS was to evaluate the potential environmental impacts of and alternatives to the Basin Electric Power Cooperative, Inc. (Basin Electric) application for a Rural Development loan guarantee to construct and operate a coal-fired electric generation facility referred to as the Dry Fork Station. Basin Electric did not request a loan guarantee from Rural Development for the Hughes Transmission Line, but it was being evaluated as a connected action for the EIS. Basin Electric withdrew their application to Rural Development on October 17, 2007.

A Draft EIS was filed with the U.S. Environmental Protection Agency on August 24, 2007, and notice of an extension of the public comment period to November 19, 2007, appeared in the Federal Register on October 17, 2007 (“Notice of Extension of Public Comment Period, Draft Environmental Impact Statement, Dry Fork Station and Hughes Transmission Line, Wyoming”, 72 FR 59071). Public hearings on the Draft EIS were held in Sheridan, Wyoming on September 25, 2007, and in Gillette, Wyoming on September 26, 2007.

ADDRESS AND FOR FURTHER INFORMATION: For more information, contact: Richard Fristik, USDA, Rural Development, Utilities Programs, 1400 Independence Avenue SW., Mail Stop 1571, Room 2240, Washington, DC 20250-1571, telephone (202) 720-5093, fax (202) 690-0649, or e-mail: Richard.Fristik@wdc.usda.gov.

Dated: October 31, 2007.
James R. Newby,
Assistant Administrator, USDA Rural Development, Utilities Programs.

[FR Doc. E7-21749 Filed 11-5-07; 8:45 am]

BILLING CODE 3410-15-P